SMALL BUSINESS ADMINISTRATION

[Disaster Declaration #16135 and #16136; Mississippi Disaster Number MS-00110]

Presidential Declaration of a Major Disaster for the State of Mississippi

AGENCY: U.S. Small Business Administration.

ACTION: Notice.

SUMMARY: This is a Notice of the Presidential declaration of a major disaster for the State of Mississippi (FEMA-4429-DR), dated 09/20/2019.

Incident: Severe Storms, Straight-line Winds, Tornadoes, and Flooding.

Incident Period: 02/22/2019 through 03/29/2019.

DATES: Issued on 09/20/2019.

Physical Loan Application Deadline Date: 11/19/2019.

Economic Injury (EIDL) Loan Application Deadline Date: 06/22/2020.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 09/20/2019, applications for disaster loans may be filed at the address listed above or other locally announced locations. The following areas have been determined to be adversely affected by the disaster:

Primary Counties (Physical Damage and Economic Injury Loans): Clay, Humphreys, Issaquena, Lowndes, Monroe, Sharkey, Warren, Yazoo.

Contiguous Counties (Economic Injury Loans Only):

Mississippi: Attala, Chickasaw, Claiborne, Hinds, Holmes, Itawamba, Lee, Leflore, Madison, Noxubee, Oktibbeha, Sunflower, Washington, Webster.

Alabama: Lamar, Marion, Pickens.

Arkansas: Chicot.

Louisiana: East Carroll, Madison, Tensas.

The interest rates are:

For Physical Damage:
Homeowners with Credit Available Elsewhere | 4.125
Homeowners without Credit Available Elsewhere | 2.063
Businesses with Credit Available Elsewhere | 8.000
Businesses without Credit Available Elsewhere | 4.000
Non-Profit Organizations with Credit Available Elsewhere | 2.750
Non-Profit Organizations without Credit Available Elsewhere | 2.750
For Economic Injury:
Businesses & Small Agricultural Cooperatives without Credit Available Elsewhere | 4.000
Non-Profit Organizations without Credit Available Elsewhere | 2.750

The number assigned to this disaster for physical damage is 16135B and for economic injury is 161360.

(Catalog of Federal Domestic Assistance Number 59008)

James Rivera,
Associate Administrator for Disaster Assistance.

[FR Doc. 2019-21777 Filed 10-4-19; 8:45 am]

BILLING CODE 8026-03-P